Title 3—

The President

Proclamation 10844 of October 23, 2024

United Nations Day, 2024

By the President of the United States of America

A Proclamation

Nearly 80 years ago, our forebearers gathered for the first United Nations General Assembly. With the horrors of World War II weighing on their hearts and the hopes of humanity resting on their shoulders, they opened the General Assembly by declaring, “The whole world now waits upon our decisions . . . looking to us to show ourselves capable of mastering our problems.” Today, we reflect on the history of this storied institution. And together, we recommit to sustaining and strengthening it to master the challenges of our time.

Under my Administration, the United States has been a leader at the United Nations—rallying global action to advance democratic values, safeguard human rights, and address the issues our world faces. That includes standing against Russia's brutal aggression against Ukraine and Hamas' despicable terrorist attack on Israel. At the United Nations, we have been working to secure a ceasefire in Gaza, with the release of hostages, and we have been pushing to expand humanitarian access and assistance. The United States has also played a key role in helping bring security to the people of Haiti and addressing the conflict and dire humanitarian situation in Sudan, where millions are displaced and facing famine.

But we know people need more than the absence of war. They need the chance to live with dignity. They need to be protected from the ravages of climate change, hunger, and disease. That is why my Administration has invested over $150 billion to accelerate progress on the Sustainable Development Goals, including ending poverty, eliminating hunger, promoting health and well-being, and promoting gender equality. We also forged a historic consensus on the first-ever General Assembly Resolution on Artificial Intelligence to help people everywhere seize the potential—and minimize the risks—of this technology.

As we look ahead, countries need to work together to continue reforming the United Nations to be more effective. The United States will keep pushing for a stronger, more inclusive United Nations, including a reformed and expanded United Nations Security Council. And the Security Council, like the United Nations itself, needs to focus on making peace, brokering deals to end wars and suffering, stopping the spread of the most dangerous weapons, and stabilizing troubled regions.

Finally, the United Nations' work is carried out by brave and committed United Nations humanitarian workers, development professionals, peacekeepers, and members of special political missions. And every day, they risk their own lives to save the lives of others, undertaking often dangerous work. Like nations around the world, the United States honors their sacrifices and those of their families.

Today and every day, let us remember that the forces holding us together are stronger than those pulling us apart. Let us continue to work together to unleash the power of humanity and give people the opportunity to live freely, think freely, breathe freely, and love freely. And in the face of difficult challenges, let us prove that we are capable of building a better world together.

NOW, THEREFORE, I, JOSEPH R. BIDEN JR., President of the United States of America, by virtue of the authority vested in me by the Constitution and the laws of the United States, do hereby proclaim October 24, 2024, as United Nations Day. I urge the governors of the United States and its territories, and the officials of all other areas under the flag of the United States, to observe United Nations Day with appropriate ceremonies and activities.

IN WITNESS WHEREOF, I have hereunto set my hand this twenty-third day of October, in the year of our Lord two thousand twenty-four, and of the Independence of the United States of America the two hundred and forty-ninth.

[FR Doc. 2024-25106

Filed 10-25-24; 8:45 am]

Billing code 3395-F4-P